DEPARTMENT OF COMMERCE

National Oceanic and Atmospheric Administration

Proposed Information Collection; Comment Request; Marine Recreational Fisheries Statistics Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Rob Andrews, NOAA, National Marine Fisheries Service, Fisheries Statistics Division, Phone: (301) 713-2328, ext. 148 or Rob.Andrews@noaa.gov.

SUPPLEMENTARY INFORMATION:

I. Abstract

Marine recreational anglers are surveyed for catch and effort data, fish biology data, and angler socioeconomic characteristics. These data are required to carry out provisions of the Magnuson-Stevens Fishery Conservation and Management Act (MSA) (16 U.S.C. 1801 et seq.), as amended, regarding conservation and management of fishery resources.

Marine recreational fishing catch and effort data are collected through a combination of telephone surveys and on-site intercept surveys with recreational anglers. The current telephone surveys rely on random contacts with residents of coastal county households (Random Digit Dialing, or RDD). This method is extremely inefficient as a relatively small percentage of contacted households reports fishing during any survey period.

The recent amendments to the MSA require that future surveys of fishing effort target anglers registered or licensed at the State or Federal level. Such licensed-based surveys will greatly increase the efficiency of data collection as a much larger percentage of contacted individuals are likely to report fishing activity. However, most current saltwater licensing programs exempt large sections of the population from licensing requirements (age, military and disability exemptions). To compensate for gaps in survey coverage created by these exemptions, a dual-frame methodology has been developed that integrates licensed-based sampling with RDD sampling. The resulting survey provides an efficient means of collecting fishing effort data while maintaining nearly complete coverage of the angling population.

II. Method of Collection

Information is collected by means of telephone interviews.

III. Data

OMB Number: 0648-0052.

Form Number: None.

Type of Review: Regular submission.

Affected Public: Individuals or households, business or other for-profit organizations.

Estimated Number of Respondents: 723,325.

Estimated Time Per Response: 8 minutes for fishing households; 1 minute for non-fishing households.

Estimated Total Annual Burden Hours: 44,677.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 6, 2007.
Gwellnar Banks,
Management Analyst, Office of the Chief Information Officer.

[FR Doc. E7-17918 Filed 9-11-07; 8:45 am]

BILLING CODE 3510-22-P